DEPARTMENT OF VETERANS AFFAIRS

National Research Advisory Council; Notice of Meeting

The Department of Veterans Affairs (VA) gives notice under Public Law 92-463 (Federal Advisory Committee Act) that the National Research Advisory Council will hold a meeting on Monday, February 9, 2009, in room GL-20 at the Greenhoot Cohen Building, 1722 Eye Street, NW., Washington, DC. The meeting will convene at 8:30 a.m. and end at 3 p.m. The meeting is open to the public.

The purpose of the Council is to provide external advice and review for VA's research mission. The agenda will include a review of the VA research portfolio and a summary of current budget allocations. The Council will also provide feedback on the direction/focus of VA's research initiatives.

Any member of the public wishing to attend the meeting or wishing further information should contact Jay A. Freedman, PhD, Designated Federal Officer, at (202) 461-1699. Oral comments from the public will not be accepted at the meeting. Written statements or comments should be transmitted electronically to jay.freedman@va.gov or mailed to Dr. Freedman at Department of Veterans Affairs, Office of Research and Development (12), 810 Vermont Avenue, NW., Washington, DC 20420.

Dated: January 6, 2009.
By Direction of the Secretary.
E. Philip Riggin,
Committee Management Officer.

[FR Doc. E9-375 Filed 1-9-09; 8:45 am]

BILLING CODE 8320-01-P